DEPARTMENT OF HEALTH AND HUMAN SERVICES

National Institutes of Health

Center for Scientific Review; Cancellation of Meeting

Notice is hereby given of the cancellation of the Center for Scientific Review Special Emphasis Panel, Cellular, Molecular and Integrative Reproduction Study Section, February 20, 2020, 10:00 a.m. to February 20, 2020, 12:00 p.m., Embassy Suites Alexandria Old Town, 1900 Diagonal Road, Alexandria, VA 22314 which was published in the Federal Register on January 27, 2020, 85 FR 4672.

Meeting is being cancelled.

Dated: February 13, 2020.
Melanie J. Pantoja,
Program Analyst, Office of Federal Advisory Committee Policy.

[FR Doc. 2020-03286 Filed 2-19-20; 8:45 am]

BILLING CODE 4140-01-P